DEPARTMENT OF ENERGY

Federal Energy Regulatory Commission

Combined Notice of Filings #1

Take notice that the Commission received the following electric rate filings:

Docket Numbers: ER12-1071-001.

Applicants: Entergy Arkansas, Inc.

Description: Entergy Arkansas, Inc. submits Att C, D, E Compliance Filing to be effective 6/17/2013.

Filed Date: 6/17/13.

Accession Number: 20130617-5122.

Comments Due: 5 p.m. ET 7/8/13.

Docket Numbers: ER13-1121-001.

Applicants: Peetz Logan Interconnect, LLC.

Description: Peetz Logan Interconnect, LLC submits Peetz Logan Interconnect, LLC Compliance Filing to be effective 11/1/2011.

Filed Date: 6/17/13.

Accession Number: 20130617-5127.

Comments Due: 5 p.m. ET 7/8/13.

Docket Numbers: ER13-1188-014.

Applicants: Pacific Gas and Electric Company.

Description: Pacific Gas and Electric Company submits Wholesale Distribution Tariff Rate Case 2013 (WDT2) Compliance Filing, MRID to be effective 11/1/2013.

Filed Date: 6/17/13.

Accession Number: 20130617-5112.

Comments Due: 5 p.m. ET 7/8/13.

Docket Numbers: ER13-1188-015.

Applicants: Pacific Gas and Electric Company.

Description: Pacific Gas and Electric Company submits Wholesale Distribution Tariff Rate Case 2013 (WDT2) Compliance Filing, PWRPA 30 to be effective 11/1/2013.

Filed Date: 6/17/13.

Accession Number: 20130617-5118.

Comments Due: 5 p.m. ET 7/8/13.

Docket Numbers: ER13-1188-016.

Applicants: Pacific Gas and Electric Company.

Description: Pacific Gas and Electric Company submits Wholesale Distribution Tariff Rate Case 2013 (WDT2) Compliance Filing, PWRPA 56 to be effective 11/1/2013.

Filed Date: 6/17/13.

Accession Number: 20130617-5120.

Comments Due: 5 p.m. ET 7/8/13.

Docket Numbers: ER13-1188-017.

Applicants: Pacific Gas and Electric Company.

Description: Pacific Gas and Electric Company Wholesale Distribution Tariff Rate Case 2013 (WDT2) Compliance Filing, S Cove to be effective 11/1/2013.

Filed Date: 6/17/13.

Accession Number: 20130617-5121.

Comments Due: 5 p.m. ET 7/8/13.

Docket Numbers: ER13-1188-018.

Applicants: Pacific Gas and Electric Company.

Description: Pacific Gas and Electric Company submits Wholesale Distribution Tariff Rate Case 2013 (WDT2) Compliance Filing, Western to be effective 11/1/2013.

Filed Date: 6/17/13.

Accession Number: 20130617-5123.

Comments Due: 5 p.m. ET 7/8/13.

Docket Numbers: ER13-1188-019.

Applicants: Pacific Gas and Electric Company.

Description: Pacific Gas and Electric Company submits Wholesale Distribution Tariff Rate Case 2013 (WDT2) Compliance Filing, WPA to be effective 11/1/2013.

Filed Date: 6/17/13.

Accession Number: 20130617-5126.

Comments Due: 5 p.m. ET 7/8/13.

Docket Numbers: ER13-1707-000.

Applicants: Consolidated Edison Company of New York, Inc.

Description: Consolidated Edison Company of New York, Inc. submits tariff filing per 35.13(a)(2)(iii: Amendment to PSL 18a Surcharge to be effective 5/20/2013.

Filed Date: 6/17/13.

Accession Number: 20130617-5102.

Comments Due: 5 p.m. ET 7/8/13.

Docket Numbers: ER13-1708-000.

Applicants: Southwest Power Pool, Inc.

Description: Southwest Power Pool, Inc. submits 2551R1 Kansas Municipal Energy Agency NITSA and NOA to be effective 6/1/2013.

Filed Date: 6/17/13.

Accession Number: 20130617-5106.

Comments Due: 5 p.m. ET 7/8/13.

Docket Numbers: ER13-1709-000.

Applicants: Blackwell Wind, LLC.

Description: Blackwell Wind, LLC submits Blackwell Wind, LLC Amendment to MBR Tariff to be effective 2/5/2012.

Filed Date: 6/17/13.

Accession Number: 20130617-5128.

Comments Due: 5 p.m. ET 7/8/13.

Docket Numbers: ER13-1710-000.

Applicants: Elk City Wind, LLC.

Description: Elk City Wind, LLC submits Elk City Wind, LLC Amendment to MBR Tariff to be effective 7/21/2010.

Filed Date: 6/17/13.

Accession Number: 20130617-5129.

Comments Due: 5 p.m. ET 7/8/13.

Docket Numbers: ER13-1711-000.

Applicants: Elk City II Wind, LLC.

Description: Elk City II Wind, LLC submits Elk City II Wind, LLC Amendment to MBR Tariff to be effective 12/15/2010.

Filed Date: 6/17/13.

Accession Number: 20130617-5130.

Comments Due: 5 p.m. ET 7/8/13.

Docket Numbers: ER13-1712-000.

Applicants: FPL Energy Cowboy Wind, LLC.

Description: FPL Energy Cowboy Wind, LLC submits FPL Energy Cowboy Wind, LLC Amendment to MBR Tariff to be effective 7/22/2010.

Filed Date: 6/17/13.

Accession Number: 20130617-5131.

Comments Due: 5 p.m. ET 7/8/13.

Docket Numbers: ER13-1713-000.

Applicants: FPL Energy Oklahoma Wind, LLC.

Description: FPL Energy Oklahoma Wind, LLC submits FPL Energy Oklahoma Wind, LLC to be effective 7/23/2010.

Filed Date: 6/17/13.

Accession Number: 20130617-5132.

Comments Due: 5 p.m. ET 7/8/13.

Docket Numbers: ER13-1714-000.

Applicants: FPL Energy Sooner Wind, LLC.

Description: FPL Energy Sooner Wind, LLC submits FPL Energy Sooner Wind, LLC Amendment to MBR Tariff to be effective 7/23/2010.

Filed Date: 6/17/13.

Accession Number: 20130617-5133.

Comments Due: 5 p.m. ET 7/8/13.

Docket Numbers: ER13-1715-000.

Applicants: High Majestic Wind II, LLC.

Description: High Majestic Wind II, LLC submits High Majestic Wind II, LLC Amendment to MBR Tariff to be effective 5/7/2012.

Filed Date: 6/17/13.

Accession Number: 20130617-5134.

Comments Due: 5 p.m. ET 7/8/13.

Docket Numbers: ER13-1716-000.

Applicants: Minco Wind, LLC.

Description: Minco Wind, LLC submits Minco Wind, LLC Amendment to MBR Tariff to be effective 11/1/2010.

Filed Date: 6/17/13.

Accession Number: 20130617-5135.

Comments Due: 5 p.m. ET 7/8/13.

Docket Numbers: ER13-1717-000.

Applicants: Minco Wind II, LLC.

Description: Minco Wind II, LLC submits Minco Wind II, LLC Amendment to MBR Tariff to be effective 9/30/2011.

Filed Date: 6/17/13.

Accession Number: 20130617-5136.

Comments Due: 5 p.m. ET 7/8/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 18, 2013.
Nathaniel J. Davis, Sr.,
Deputy Secretary.

[FR Doc. 2013-15395 Filed 6-26-13; 8:45 am]

BILLING CODE 6717-01-P